SECURITIES AND EXCHANGE COMMISSION

[File No. 500-1]

In the Matter of YesDTC Holdings, Inc.; Order of Suspension of Trading

November 17, 2014.

It appears to the Securities and Exchange Commission that there is a lack of current and accurate information concerning the securities of YesDTC Holdings, Inc. (“YesDTC”) because it has not filed a periodic report since its Form 10-Q for the period ending June 30, 2011. YesDTC is a Nevada corporation and is currently quoted on OTC Link operated by OTC Markets Group Inc. under the ticker symbol YESD.

The Commission is of the opinion that the public interest and the protection of investors require a suspension of trading in the securities of YesDTC. Therefore, it is ordered, pursuant to Section 12(k) of the Securities Exchange Act of 1934, that trading in the securities of YesDTC is suspended for the period from 9:30 a.m. EST on November 17, 2014, through 11:59 p.m. EST on December 1, 2014.

By the Commission.
Brent J. Fields,
Secretary.

[FR Doc. 2014-27471 Filed 11-17-14; 11:15 am]

BILLING CODE 8011-01-P